DEPARTMENT OF COMMERCE

National Oceanic and Atmospheric Administration

50 CFR Part 622

[I.D. 121903A]

Fisheries of the Caribbean, Gulf of Mexico, and South Atlantic; South Atlantic Fishery Management Council; Informational Public Hearings

AGENCY: National Marine Fisheries Service (NMFS), National Oceanic and Atmospheric Administration (NOAA), Commerce.

ACTION: Notice of informational public hearings.

SUMMARY: The South Atlantic Fishery Management Council (Council) will hold nine informational public hearings to collect social and economic information on the use of proposed marine protected area (MPA) candidate sites as a fishery management tool with an emphasis on deepwater species found in the snapper/grouper management complex.

DATES: The meetings will be held in January and February 2004. See SUPPLEMENTARY INFORMATION for specific dates, location and times of the informational public hearings. Written comments, including email will be accepted until close of business on February 27, 2004.

ADDRESSES: Written comments should be sent to Kerry O'Malley, South Atlantic Fishery Management Council, One Southpark Circle, Suite 306, Charleston, SC 29407; email kerry.omalley@safmc.net. Copies of the informational public hearing document are available by contacting Kerry O'Malley, South Atlantic Fishery Management Council, One Southpark Circle, Suite 306, Charleston, SC 29407- 4699; telephone: 843/571-4366 or toll free 1-866/SAFMC-10; FAX 843/769-4520; email: kerry.omalley@safmc.net. The informational public hearing document will also be available at the meeting. See SUPPLEMENTARY INFORMATION for specific locations.

FOR FURTHER INFORMATION CONTACT: Kim Iverson, Public Information Officer; telephone: 843/571-4366 or toll free 1-866/SAFMC-10; fax: 843/769-4520; email: kim.iverson@safmc.net.

SUPPLEMENTARY INFORMATION:

Purpose of Meetings

The Council will hold nine informational public hearings to collect social and economic information from the public on individual marine protected area alternatives being considered for use as a fishery management tool to protect deepwater species in the snapper/grouper management complex. This information is critical to evaluating the impacts of the various MPA candidate sites on people and communities.

Times and Locations of Informational Public Hearings

Public informational hearings will be held at the following dates and locations. All meetings are scheduled to begin at 6 p.m.

1. Monday, January 19, 2004, Sea Turtle Inn, One Ocean Boulevard, Atlantic Beach, FL 32233; telephone: 904 -249-7402;

2. Tuesday, January 20, 2004, Ramada Inn, 1200 S Federal Highway, Stuart, FL 34994; telephone: 772-287-6900;

3. Thursday, January 22, 2004, The Islander, 82100 Overseas Highway, Islamorada, FL 33036; telephone: 305-664-2031;

4. Tuesday, January 27, 2004, Crystal Coast Civic Center, 3505 Arendell Street, Morehead City, NC 28557; telephone: 252-247-3883;

5. Wednesday, January 28, 2004, Blockade Runner, 275 Waynick Boulevard, Wrightsville Beach, NC 28480; telephone: 800-541-1161 or 910-256-2251;

6. Tuesday, February 10, 2004, University of Georgia Marine Extension, 715 Bay Street, Brunswick, GA 31520; telephone: 912-264-7268;

7. Wednesday, February 11, 2004, Richmond Hill City Hall, 40 Richard R. Davis Drive, Richmond Hill, GA 31324; telephone: 912-756-3345;

8. Tuesday, February 17, 2004, Holiday Inn, 722 Highway 17, Little River, SC 29566; telephone: 843-281-9400; and

9. Thursday, February 19, 2004, Town & Country Inn, 2008 Savannah Highway, Charleston, SC 29407; telephone: 1-800-334-6660 or 843-571-1000.

Special Accommodations

These meetings are physically accessible to people with disabilities. Requests for sign language interpretation or other auxiliary aids should be directed to the Council office (see ADDRESSES) by January 16, 2004.

Dated: December 29, 2003.
Bruce C. Morehead,
Acting Director, Office of Sustainable Fisheries, National Marine Fisheries Service.

[FR Doc. 04-90 Filed 1-2-04; 8:45 am]

BILLING CODE 3510-22-S